DEPARTMENT OF THE INTERIOR

Bureau of Reclamation

Glen Canyon Dam Adaptive Management Work Group (AMWG), Notice of Meeting

AGENCY: Bureau of Reclamation, Interior.

ACTION: Notice of public meeting.

SUMMARY: The Adaptive Management Program (AMP) was implemented as a result of the Record of Decision on the Operation of Glen Canyon Dam Final Environmental Impact Statement to comply with consultation requirements of the Grand Canyon Protection Act (Pub. L. 102-575) of 1992. The AMP includes a federal advisory committee (AMWG), a technical work group (TWG), a monitoring and research center, and independent review panels. The AMWG makes recommendations to the Secretary of the Interior concerning Glen Canyon Dam operations and other management actions to protect resources downstream of Glen Canyon Dam consistent with the Grand Canyon Protection Act. The TWG is a subcommittee of the AMWG and provides technical advice and recommendations to the AMWG.

Date and Location

The AMWG will conduct the following public meeting:

Phoenix, Arizona—October 25-26, 2004. The meeting will begin at 10 a.m. and conclude at 5 p.m. on October 25, 2004, and will begin at 8 a.m. and conclude at 3 p.m. on October 26, 2004. The meeting will be held at the Arizona Department of Water Resources, 500 N. Third Street, Conference Rooms A&B, Phoenix, Arizona.

Agenda: The purpose of the meeting will be to discuss feedback on previous AMWG recommendations, effects of Modified Low Fluctuating Flows (MLFF) under the Record of Decision, status of the Colorado River Basin Fund, status of Programmatic Agreement membership, Glen Canyon Dam maintenance schedule, review of AMWG Operating Procedures, development of FY06-07 Budget and work plan, review of planning documents, environmental compliance progress on proposed actions, research and monitoring reports, basin hydrology, public outreach, as well as other administrative and resource issues pertaining to the AMP.

Time will be allowed for any individual or organization wishing to make formal oral comments (limited to 5 minutes) at the meeting. To allow full consideration of information by the AMWG members, written notice must be provided to Dennis Kubly, Bureau of Reclamation, Upper Colorado Regional Office, 125 South State Street, Room 6107, Salt Lake City, Utah, 84138; telephone (801) 524-3715; faxogram (801) 524-3858; e-mail at dkubly@uc.usbr.gov at least five (5) days prior to the meeting. Any written comments received will be provided to the AMWG and TWG members.

FOR FURTHER INFORMATION CONTACT: Dennis Kubly, telephone (801) 524-3715; faxogram (801) 524-3858; or via e-mail at dkubly@uc.usbr.gov.

Dated: September 13, 2004.
Randall V. Peterson,
Manager, Environmental Resources Division, Upper Colorado Regional Office.

[FR Doc. 04-21376 Filed 9-22-04; 8:45 am]

BILLING CODE 4310-MN-P